DEPARTMENT OF HEALTH AND HUMAN SERVICES

National Institutes of Health

National Cancer Institute; Amended Notice of Meeting

Notice is hereby given of a change in the meeting of the National Cancer Institute Special Emphasis Panel, March 13, 2018, 4:00 p.m. to March 14, 2018, 5:00 p.m., Bethesda North Marriott Hotel & Conference Center, 5701 Marinelli Road, North Bethesda, MD 20852 which was published in the Federal Register on January 11, 2018, 83 FR 1378.

This meeting notice is amended to change the meeting name from “TEP-1: Development of Software Tools for Post Radiation Therapy Surveillance” to “TEP-1: Software Tools for Post Radiation Therapy Surveillance”. The meeting location has been changed to the Hilton Washington DC/Rockville, Regency Room, 1750 Rockville Pike, Rockville, MD 20852. The meeting is closed to the public.

Dated: January 30, 2018.
Melanie J. Pantoja,
Program Analyst, Office of Federal Advisory Committee Policy,

[FR Doc. 2018-02155 Filed 2-2-18; 8:45 am]

BILLING CODE 4140-01-P